DEPARTMENT OF HEALTH AND HUMAN SERVICES

National Institutes of Health

National Institute of Alcohol Abuse and Alcoholism, Notice of Meeting

Pursuant to section 10(d) of the Federal Advisory Committee Act, as amended (5 U.S.C. Appendix 2), notice is hereby given of the Board of Scientific Counselors, NIAAA.

The meeting will be open to the public as indicated below, with attendance limited to space available. Individuals who plan to attend and need special assistance, such as sign language interpretation or other reasonable accommodations, should notify the Contact Person listed below in advance of the meeting.

The meeting will be closed to the public as indicated below in accordance with the provisions set forth in section 552b(c)(6), Title 5 U.S.C., as amended for the review, discussion, and evaluation of individual intramural programs and projects conducted by the National Institute of Alcohol Abuse and Alcoholism, including consideration of personnel qualifications and performance, and the competence and individual investigators, the disclosure of which would constitute a clearly unwarranted invasion of personal privacy.

Name of Committee: Board of Scientific Counselors, NIAAA.

Date: June 3-4, 2003.

Open: June 3, 2003, 7:45 a.m. to 8 a.m.

Agenda: To Discuss Administrative Details.

Place: National Institutes of Health, Building 31, 31 Center Drive, Conference Room 6, Bethesda, MD 20892,

Closed: June 3, 2003, 8 a.m. to 5:30 p.m.

Agenda: To review and evaluate the Laboratory of Clinical Studies and part of the Section of Fluorescence Studies.

Place: National Institutes of Health, Building 31, 31 Center Drive, Conference Room 6, Bethesda, MD 20892.

Closed: June 4, 2003, 8 a.m. to 2 p.m.

Agenda: To review and evaluate the Laboratory of Clinical Studies and part of the Section on Fluorescence Studies.

Place: National Institutes of Health, Building 31, 31 Center Drive, Conference Room 6, Bethesda, MD 20892.

Contact Person: Brenda L. Sandler, Chief, Administrative Management Branch, Div of Intramural Chief and Biological Research, Building 31, Room 1B58, Bethesda, MD 20892-2088, 301-496-9843, sandlerb@niaaa.nih.gov.

(Catalogue of Federal Domestic Assistance Program Nos. 93.271, Alcohol Research Career Development Awards for Scientists and Clinicians; 93.272, Alcohol National Research Service Awards for Research Training; 93.273, Alcohol Research Programs; 93.891, Alcohol Research Center Grants, National Institutes of Health, HHS)

Dated: April 22, 2003.
LaVerne Y. Stringfield,
Director, Office of Federal Advisory Committee Policy.

[FR Doc. 03-10591 Filed 4-29-03; 8:45 am]

BILLING CODE 4140-01-M